DEPARTMENT OF JUSTICE

Antitrust Division

Notice Pursuant to the National Cooperative Research and Production Act of 1993—Members of SGIP 2.0, Inc.

Notice is hereby given that, on October 27, 2014, pursuant to Section 6(a) of the National Cooperative Research and Production Act of 1993, 15 U.S.C. 4301 et seq. (“the Act”), Members of SGIP 2.0, Inc. (“MSGIP 2.0”) has filed written notifications simultaneously with the Attorney General and the Federal Trade Commission disclosing changes in its membership. The notifications were filed for the purpose of extending the Act's provisions limiting the recovery of antitrust plaintiffs to actual damages under specified circumstances. Specifically, PowerHub Systems, Blacksburg, VA; London Hydro, London, United Kingdom; Telecommunications Technology Association, Seongnam-City, Gyeonggi-do, Republic of Korea; Utility Integration Solutions Organization, Fort Washington, PA; and Advanced Energy Centre, Toronto, Ontario, Canada, have been added as parties to this venture.

Also, International Business Machines Corporation, Yorktown Heights, NY; Quadlogic Controls Corp., Long Island City, NY; UCA International Users Group, Raleigh, NC; Amzur Technologies, Inc., Tampa, FL; Pacific Data Bank Security, Delta, British Columbia, Canada; Kkrish Energy LLC, Colorado Springs, CO; Analysis Group, Inc., Boston, MA; and Inman Technology, Cambridge, MA, have withdrawn as parties to this venture.

No other changes have been made in either the membership or planned activity of the group research project. Membership in this group research project remains open, and MSGIP 2.0 intends to file additional written notifications disclosing all changes in membership.

On February 5, 2013, MSGIP 2.0 filed its original notification pursuant to Section 6(a) of the Act. The Department of Justice published a notice in the Federal Register pursuant to Section 6(b) of the Act on March 7, 2013 (78 FR 14836).

The last notification was filed with the Department on August 4, 2014. A notice was published in the Federal Register pursuant to Section 6(b) of the Act on September 3, 2014 (79 FR 52363).

Patricia A. Brink,
Director of Civil Enforcement, Antitrust Division.

[FR Doc. 2014-28367 Filed 12-1-14; 8:45 am]

BILLING CODE P